POSTAL SERVICE

Mail Classification Schedule Changes Pertaining to Priority Mail International Flat Rate Envelopes and Priority Mail International Small Flat Rate Boxes

AGENCY: Postal Service.

ACTION: Notice; modified effective date.

SUMMARY: The Postal Service has filed a notice with the Postal Regulatory Commission to establish a new implementation date for the changes to the Mail Classification Schedule provisions pertaining to Priority Mail International Flat Rate Envelopes and Priority Mail International Small Flat Rate Boxes.

DATES: Effective date: May 26, 2016.

FOR FURTHER INFORMATION CONTACT: Christopher C. Meyerson, 202-268-7820.

SUPPLEMENTARY INFORMATION: On May 20, 2016, the United States Postal Service® filed with the Postal Regulatory Commission (Commission) a new implementation date of August 28, 2016, for pending changes to the Mail Classification Schedule related to Priority Mail International Flat Rate Envelopes and Priority Mail International Small Flat Rate Boxes. These changes were the subject of a previous notice in the Federal Register published by the Postal Service on April 14, 2016 (81 FR 22131). Documents pertinent to this request are available at http://www.prc.gov, Docket No. MC2016-118. The Governors' Decision in connection with the revised date is reprinted below.

Stanley F. Mires,
Attorney, Federal Compliance.

Decision of the Governors of the United States Postal Service Concerning Revised Implementation Date of Mail Classification Schedule Changes for Priority Mail International Flat Rate Envelopes and Priority Mail International Small Flat Rate Boxes (Governors' Decision No. 16-2)

May 12, 2016.

Statement of Explanation and Justification

Pursuant to section 404(b) and Chapter 36 of title 39, United States Code, Governors' Decision No. 16-1 established classification changes to Priority Mail International Flat Rate Envelopes (PMI FREs) and PMI Small Flat Rate Boxes (PMI SFRBs) to be effective June 3, 2016.

Due to operational considerations, I hereby revise the implementation date of the classification changes set forth in Governors' Decision No. 16-1 as indicated in our order below.

Order

The changes in classification to PMI FREs and PMI SFRBs established in Governors' Decision No. 16-1 shall be effective on August 28, 2016.

By The Governors:

James H. Bilbray

Chairman, Temporary Emergency Committee of the Board of Governors

[FR Doc. 2016-12400 Filed 5-25-16; 8:45 am]

BILLING CODE 7710-12-P